DEPARTMENT OF THE TREASURY

Privacy Act of 1974; System of Records

AGENCY: Departmental Offices, Department of the Treasury.

ACTION: Notice of a modified system of records.

SUMMARY: In accordance with the Privacy Act of 1974, the Department of the Treasury (“Treasury” or the “Department”), Departmental Offices on January 26, 2024, published a notice in the Federal Register proposing to modify a current Treasury system of records titled, “Department of the Treasury, Departmental Offices .214—DC Pensions Retirement Records” System of Records. This system of records is a collection of information used by the Office of DC Pensions to administer certain District of Columbia (“District”) retirement plans, and the modification of the system of records notice is being published in order to clarify and update the description of the system of records. This notice adopts the proposed modified system of records with minor modifications in response to a public comment.

DATES: The modification of the system of records notice is applicable on March 18, 2024.

ADDRESSES: Deputy Assistant Secretary for Privacy, Transparency, and Records, Department of the Treasury, 1500 Pennsylvania Avenue NW, Washington, DC 20220, Attention: Revisions to Privacy Act Systems of Records.

FOR FURTHER INFORMATION CONTACT: For general questions, please contact: Shalamar Barnes, 202-622-6173, the Office of DC Pensions, Departmental Offices, 1500 Pennsylvania Avenue NW, Washington, DC 20220. For privacy issues, please contact: the Deputy Assistant Secretary for Privacy, Transparency, and Records (202-622-5710), Department of the Treasury, 1500 Pennsylvania Avenue NW, Washington, DC 20220.

SUPPLEMENTARY INFORMATION: On January 26, 2024, the Department of the Treasury, Departmental Offices, published a modification of a system of records notice (“SORN”) in the Federal Register, 89 FR 5305, proposing to modify a current Treasury system of records titled, “Department of the Treasury, Departmental Offices .214—DC Pensions Retirement Records” System of Records.

The modification updated the system of records to reflect current procedures. The system of records is collecting information under the Paperwork Reduction Act using the following forms:

• Health Benefits Registration Form (SF 2809) OMB No. 3206-0160 (expiration 7/31/2025)

• Life Insurance Election-FEGLI (SF 2817) OMB No. 3206-0230 (expiration 9/30/2024)

• Designation of Beneficiary Federal Group Life Insurance (FEGLI) Program (SF 2823) OMB No. 3206-0136 (expiration 12/31/2023)

• Withholding Certificate for Pension or Annuity Payments (W-4P) OMB No. 1545-0074 (expiration 12/31/2023)

• Withholding Certificate for Nonperiodic Payments and Eligible Rollover Distributions (W-4R) OMB No. 1545-0074 (expiration 12/31/2023)

Treasury will include this modified system in its inventory of record systems.

Below is the description of the Treasury, Departmental Offices .214—DC Pensions Retirement Records System of Records.

Treasury has provided a report of this system of records to the Committee on Oversight and Government Reform of the House of Representatives, the Committee on Homeland Security and Governmental Affairs of the Senate, and the Office of Management and Budget (OMB), pursuant to 5 U.S.C. 552a(r) and OMB Circular A-108, “Federal Agency Responsibilities for Review, Reporting, and Publication under the Privacy Act,” dated December 23, 2016.

Public Comments

Treasury received one comment on the SORN. The comment stated, “We respectfully request that the Department of the Treasury update these regulations to replace the term `physician' with `licensed health care professional.' This will maintain the privacy protection that is in place, while also ensuring that an individual who selects a nurse practitioner, or other licensed health care professional, as their provider of choice, is authorized to designate that clinician as the recipient of their medical records.”

In response to the comment, in this notice, Treasury replaced references to “physician” with “health professional.”

Ryan Law,
Deputy Assistant Secretary for Privacy, Transparency, and Records.

SYSTEM NAME AND NUMBER:

Department of the Treasury, DO .214—DC Pensions Retirement Records

SECURITY CLASSIFICATION:

Unclassified

SYSTEM LOCATION:

The records are maintained at the Office of DC Pensions, Department of the Treasury, in Washington, DC and the Bureau of the Fiscal Service in Parkersburg, WV, Kansas City, MO, and privately run secure storage facilities in various States.

SYSTEM MANAGER(S):

Director, Office of DC Pensions, U.S. Department of the Treasury, 1500 Pennsylvania Avenue NW, Washington, DC 20220.

AUTHORITY FOR MAINTENANCE OF THE SYSTEM:

Title XI, subtitle A, chapters 1 through 9, and subtitle C, chapter 4, subchapter B of the Balanced Budget Act of 1997, Public Law 105-33 (as amended); 31 U.S.C 321; and 5 U.S.C. 301.

PURPOSE(S) OF THE SYSTEM:

These records may provide information on which to base determinations of (1) eligibility for, and computation of, benefit payments and refund of contribution payments; (2) direct deposit elections into a financial institution; (3) eligibility and premiums for health insurance and group life insurance; (4) withholding of income taxes; (5) under- or over-payments to recipients of a benefit payment (6) the recipient's ability to repay an overpayment; (7) the Federal payment made from the General Fund to the District of Columbia Teachers, Police Officers and Firefighters Federal Pension Fund and the District of Columbia Judicial Retirement and Survivors Annuity Fund; (8) the impact on benefit payments due to proposed Federal and/or District legislative changes; (9) the District or Federal liability for benefit payments to former District police officers, firefighters, teachers, and judges, including survivors, dependents, and beneficiaries who are receiving a Federal and/or District benefit; (10) whether someone committed fraud; and (11) the reliability of financial statements.

Consistent with Treasury's information sharing mission, information stored in DO .214—DC Retirement Records may be shared with other Treasury Bureaus, as well as appropriate Federal, State, local, Tribal, foreign, or international government agencies. This sharing will only occur after Treasury determines that the receiving Bureau or agency needs to know the information to carry out national security, law enforcement, intelligence, or other functions consistent with the routine uses set forth in this system of records notice.

CATEGORIES OF INDIVIDUALS COVERED BY THE SYSTEM:

(A) Current and former District of Columbia police officers, firefighters, teachers, and judges.

(B) Surviving spouses, domestic partners, children, and/or dependent parents of current and former District of Columbia police officers, firefighters, teachers, or judges, as applicable.

(C) Former spouses and domestic partners of current and former District of Columbia police officers, firefighters, teachers, or judges, as applicable.

(D) Designated beneficiaries of items A, B, and C.

(E) Non-annuitant debtors.

CATEGORIES OF RECORDS IN THE SYSTEM:

The categories of records include, but are not limited to, identifying information such as: name(s); contact information; mailing address; Social Security number; employee identification number; service beginning and end dates; annuity beginning and end dates; date of birth; sex; retirement plan; base pay; average base pay; final salary; type(s) of service and dates used to compute length of service; military base pay amount; purchase of service calculation and amount; and/or benefit payment amount(s). The types of records in the system may be:

(a) Documentation comprised of service history/credit, personnel data, retirement contributions, and/or a refund claim upon which a benefit payment(s) may be based.

(b) Medical records and supporting evidence for disability retirement applications and continued eligibility, and documentation regarding the acceptance or rejection of such applications.

(c) Records submitted by a surviving spouse, a domestic partner, a child(ren), and/or a dependent parent(s) in support of claims to a benefit payment(s).

(d) Records related to the withholding of income tax from a benefit payment(s).

(e) Retirement applications, including supporting documentation, and acceptance or denial of such applications.

(f) Death benefit applications, including supporting documentation, submitted by a surviving spouse, domestic partner, child(ren), former spouse, and/or beneficiary, that is required to determine eligibility for and receipt of a benefit payment(s), or denial of such claims.

(g) Documentation of enrollment and/or change in enrollment for health and life insurance benefits/eligibility.

(h) Designation(s) of a beneficiary(ies) for a life insurance benefit and/or an unpaid benefit payment.

(i) Court orders submitted by former spouses or domestic partners in support of claims to a benefit payment(s).

(j) Records relating to under- and/or over-payments of benefit payments.

(k) Records relating to the refunds of employee contributions.

(l) Records relating to child support orders, bankruptcies, tax levies, and garnishments.

(m) Records used to determine a total benefit payment and/or if the benefit payment is a District or Federal liability.

(n) Correspondence received from individuals covered by the system.

(o) Records relating to time served on behalf of a recognized labor organization.

(p) Records relating to benefit payment enrollment and/or change to enrollment for direct deposit to an individual's financial institution.

(q) Records relating to educational program enrollments of age 18 and older children of former police officers, firefighters, teachers, and judges.

(r) Records relating to the mental or physical disability condition of age 18 and older children of former police officers, firefighters, teachers, and judges.

(s) Records relating to a debtor's financial information, including financial disclosure forms, credit reports, tax filings, bank statements, and financial obligations.

RECORD SOURCE CATEGORIES:

The information in this system is obtained from:

a. The individual, or their representative, to whom the information pertains.

b. District pay, leave, and allowance records.

c. Health benefits and life insurance plan records maintained by the Office of Personnel Management, the District, and health and life insurance carriers.

d. Federal civilian retirement systems.

e. Military retired pay system records.

f. Social Security Old Age, Survivor, and Disability Insurance and Medicare Programs.

g. Official personnel folders.

h. Health professionals who have examined or treated the individual.

i. Surviving spouse, domestic partners, child(ren), former spouse(s), former domestic partner(s), and/or dependent parent(s) of the individual to whom the information pertains.

j. State courts or support enforcement agencies.

k. Credit bureaus and financial institutions.

l. Government Offices of the District of Columbia, including the District of Columbia Retirement Board.

m. The General Services Administration National Payroll Center.

n. The Department of the Interior Payroll Office.

o. Educational institutions.

p. Other components of the Department of the Treasury.

q. The Department of Justice.

r. Death reporting sources.

ROUTINE USES OF RECORDS MAINTAINED IN THE SYSTEM, INCLUDING CATEGORIES OF USERS AND PURPOSES OF SUCH USES:

In addition to those disclosures generally permitted under the Privacy Act of 1974, 5 U.S.C. 552a(b) records and/or information or portions thereof maintained as part of this system may be disclosed outside Treasury as a routine use pursuant to 5 U.S.C. 552a(b)(3) as follows:

(1) To the United States Department of Justice (“DOJ”), for the purpose of representing or providing legal advice to the Department in a proceeding before a court, adjudicative body, or other administrative body before which the Department is authorized to appear, when such proceeding involves:

(a) The Department or any component thereof;

(b) Any employee of the Department in his or her official capacity;

(c) Any employee of the Department in his or her individual capacity where the Department of Justice or the Department has agreed to represent the employee; or

(d) The United States, when the Department determines that litigation is likely to affect the Department or any of its components; and the use of such records by the DOJ is deemed by the DOJ or the Department to be relevant and necessary to the litigation provided that the disclosure is compatible with the purpose for which records were collected.

(2) To an appropriate Federal, State, local, Tribal, foreign, or international agency, if the information is relevant and necessary to a requesting agency's decision concerning the hiring or retention of an individual, or issuance of a security clearance, background investigation, license, contract, grant, or other benefit, or if the information is relevant and necessary to a DC Pension decision concerning the hiring or retention of an employee, the issuance of a security clearance, the reporting of an investigation of an employee, the letting of a contract, or the issuance of a license, grant or other benefit and when disclosure is appropriate to the proper performance of the official duties of the person making the request.

(3) To a Congressional office in response to an inquiry made at the request of the individual to whom the record pertains;

(4) To the National Archives and Records Administration Archivist (or Archivist's designee) pursuant to records management inspections being conducted under the authority of 44 U.S.C. 2904 and 2906;

(5) To appropriate agencies, entities, and persons when (1) the Department of the Treasury suspects or has confirmed that there has been a breach of the system of records; (2) the Department of the Treasury has determined that as a result of the suspected or confirmed breach there is a risk of harm to individuals, the Department of the Treasury (including its information systems, programs, and operations), the Federal Government, or national security; and (3) the disclosure made to such agencies, entities, and persons is reasonably necessary to assist in connection with the Department of the Treasury's efforts to respond to the suspected or confirmed breach or to prevent, minimize, or remedy such harm;

(6) To another Federal agency or Federal entity, when the Department of the Treasury determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

(7) To disclose information to another Federal agency, to a court, or to a party in litigation before a court or in an administrative proceeding being conducted by a Federal agency, when the Federal Government is a party to the judicial or administrative proceeding. In those cases where the Federal Government is not a party to the proceeding, records may not be disclosed unless the party complies with the requirements of 31 CFR 1.11;

(8) To disclose information to contractors, subcontractors, financial agents, grantees, auditors, actuaries, interns, or volunteers performing or working on a contract, service, grant, cooperative agreement, or job for the Department, or the District;

(9) To disclose information needed to adjudicate a claim for benefit payments or information needed to conduct an analytical study of benefits being paid under such programs as: Social Security Administration's Old Age, Survivor, and Disability Insurance and Medical Programs; military retired pay programs; and Federal civilian employee retirement programs (Civil Service Retirement System, Federal Employees Retirement System, and other Federal retirement systems);

(10) To disclose to the U.S. Office of Personnel Management (OPM) and to the District, information necessary to verify the election, declination, or waiver of basic and/or optional life insurance coverage, or coordinate with contract carriers the benefit provisions of such coverage;

(11) To disclose to health insurance carriers contracting with OPM to provide a health benefits plan under the Federal Employees Health Benefits Program or health insurance carriers contracting with the District to provide a health benefits plan under the health benefits program for District employees, Social Security numbers and other information necessary to identify enrollment in a plan, to verify eligibility for payment of a claim for health benefits, or to carry out the coordination for benefits provisions of such contracts;

(12) To disclose health insurance enrollment information to OPM. OPM provides this enrollment information to their health care carriers who provide a health benefits plan under the Federal Employees Health Benefits Program, or health insurance carriers contracting with the District to provide a health benefits plan under the health benefits program for District employees, Social Security numbers and other information necessary to identify enrollment in a plan, to verify eligibility for payment of a claim for health benefits, or to carry out the coordination for benefits provisions of such contracts;

(13) To disclose to certain people possibly entitled to a benefit payment information that is contained in the record of a deceased current or former police officer, firefighter, teacher, or judge to assist in properly determining the eligibility and amount of a benefit payment to a surviving recipient, or information that results from such determination;

(14) To disclose to any person who is legally responsible for the care of an individual to whom a record pertains, or who otherwise has an existing, facially-valid power of attorney, including care of an individual who is mentally incompetent or under other legal disability, information necessary to assure application or payment of benefits to which the individual may be entitled;

(15) To disclose to the Parent Locator Service of the Department of Health and Human Services, upon its request, the present address of an individual covered by the system needed for enforcing child support obligations of such individual;

(16) In connection with an examination ordered by the District or the Department under:

(a) Medical examination procedures; or

(b) Involuntary disability retirement procedures to disclose to the representative of an employee, notices, decisions, other written communications, or any other pertinent medical evidence other than medical evidence about which a prudent health professional would hesitate to inform the individual; such medical evidence will be disclosed only to a health professional, designated in writing for that purpose by the individual or his or her representative. The health professional must be capable of explaining the contents of the medical record(s) to the individual and be willing to provide the entire record(s) to the individual;

(17) To disclose information to any source from which the Department seeks additional information that is relevant to a determination of an individual's eligibility for, or entitlement to, coverage under the applicable retirement, life insurance, and health benefits program, to the extent necessary to obtain the information requested;

(18) To disclose information to the Office of Management and Budget (OMB) at any stage of the legislative coordination and clearance process in connection with private relief legislation as set forth in OMB Circular No. A-19;

(19) To disclose to Federal, State, and local government agencies responsible for the collection of income taxes the information required to implement voluntary income tax withholdings from benefit payments;

(20) To disclose to the Social Security Administration the names and Social Security numbers of individuals covered by the system when necessary to determine (1) their vital status as shown in the Social Security Master Records and (2) whether retirees receiving benefit payments under the District's retirement plan for police officers and firefighters with post-1956 military service credit are eligible for or are receiving old age or survivors benefits under section 202 of the Social Security Act based upon their wages and self-employment income;

(21) To disclose to Federal, State, and local government agencies information to help eliminate fraud and abuse in a benefits program administered by a requesting Federal, State, or local government agency; to ensure compliance with Federal, State, and local government tax obligations by persons receiving benefits payments; and/or to collect debts and overpayments owed to the requesting Federal, State, or local government agency;

(22) To disclose to a Federal agency, or a person or an organization under contract with a Federal agency to render collection services for a Federal agency as permitted by law, in response to a written request from the head of the agency or his designee, or from the debt collection contractor, data concerning an individual owing a debt to the Federal Government;

(23) To disclose, as permitted by law, information to a State court or administrative agency in connection with a garnishment, attachment, or similar proceeding to enforce alimony or a child support obligation;

(24) To disclose information necessary to locate individuals who are owed money or property by a Federal, State, or local government agency, or by a financial institution or similar institution, to the government agency owing or otherwise responsible for the money or property (or its agent);

(25) To disclose information necessary in connection with the review of a disputed claim for health benefits to a health plan provider participating in the Federal Employees Health Benefits Program or the health benefits program for District employees, and to a program enrollee or covered family member or an enrollee or covered family member's authorized representative;

(26) To disclose information to another Federal agency for the purpose of effecting administrative or salary offset against a person employed by that agency, or who is receiving or eligible to receive benefit payments from the agency when the Department as a creditor has a claim against that person relating to benefit payments;

(27) To disclose information concerning delinquent debts relating to benefit payments to other Federal agencies for the purpose of barring delinquent debtors from obtaining Federal loans or loan insurance guarantees pursuant to 31 U.S.C. 3720B;

(28) To disclose to Federal, State, and local government agencies information used for collecting debts relating to benefit payments;

(29) To disclose to appropriate agencies, entities, and persons when:

(a) The Department suspects or has confirmed that the security or confidentiality of information in the system of records has been compromised; or

(b) The Department has determined that as a result of the suspected or confirmed compromise there is a risk of harm to economic or property interests, identity theft or fraud, or harm to the security or integrity of this system or other systems or programs (whether maintained by the Department or another agency or entity) that rely upon the compromised information; and

(c) The disclosure made to such agencies, entities, and persons is reasonably necessary to assist in connection with the Department's efforts to respond to the suspected or confirmed compromise and prevent, minimize, or remedy such harm;

(30) To disclose to a former spouse information necessary to explain how his/her former spouse's benefit was computed;

(31) To disclose to a surviving spouse, domestic partner, surviving child, dependent parent, and/or legal guardian information necessary to explain how his/her survivor benefit was computed; and

(32) To disclose to a spouse, domestic partner, or dependent child (or court-appointed guardian thereof) of an individual covered by the system, upon request, whether the individual:

(a) changed his/her health insurance coverage and/or changed life insurance benefit enrollment, or

(b) received a lump-sum refund of his/her retirement contributions.

POLICIES AND PRACTICES FOR STORAGE OF RECORDS:

Paper records in this system are stored in secure facilities in a locked drawer, behind a locked door. Electronic records are stored on magnetic disc, tape, digital media, and CD-ROM in secure facilities.

POLICIES AND PRACTICES FOR RETRIEVAL OF RECORDS:

Records may be retrieved by various combinations of name; date of birth; Social Security number; and/or an automatically assigned, system-generated number of the individual to whom they pertain.

POLICIES AND PRACTICES FOR RETENTION AND DISPOSAL OF RECORDS:

In accordance with National Archives and Records Administration (NARA) retention schedule, N1-056-09-001, certain records will be destroyed after 115 years from the date of the former police officer's, firefighter's, teacher's or judge's birth; or 30 years after the date of his/her death, if no application for benefits is received. Under that retention schedule, if a survivor or former spouse receives a benefit payment, such record will be destroyed after his/her death. All other records covered by this system will be destroyed in accordance with approved Federal and Department guidelines. Paper records will be destroyed by shredding or burning. Records in electronic media will be electronically erased using NARA guidelines.

ADMINISTRATIVE, TECHNICAL, AND PHYSICAL SAFEGUARDS:

Records in this system are safeguarded in accordance with applicable rules and policies, including all applicable Treasury automated systems security and access policies. Strict controls have been imposed to minimize the risk of compromising the information that is being stored. Access to the computer system containing the records in this system is limited to those who “need-to-know” the information for the performance of their official duties and who have appropriate clearances or permissions.

RECORD ACCESS PROCEDURES:

See “Notification Procedures” below.

CONTESTING RECORD PROCEDURES:

See “Notification Procedures” below.

NOTIFICATION PROCEDURES:

When seeking records about yourself from this system of records or any other Departmental system of records your request must conform with the Privacy Act regulations set forth in 31 CFR part 1.36. You must first verify your identity, meaning that you must provide your full name, current address and date and place of birth. You must sign your request, and your signature must either be notarized or submitted under 28 U.S.C. 1746, a law that permits statements to be made under penalty of perjury as a substitute for notarization. In addition, you should provide the following:

• An explanation of why you believe the Department would have information on you;

• Identify which bureau(s) of the Department you believe may have the information about you;

• Specify when you believe the records would have been created;

• Provide any other information that will help the Bureau or Freedom of Information Act staff determine which Treasury Bureau may have responsive records; and

• If your request is seeking records pertaining to another living individual, you must include a statement from that individual certifying his/her agreement for you to access his/her records.

Without this bulleted information the Office of DC Pensions may not be able to conduct an effective search, and your request may be denied due to lack of specificity or lack of compliance with applicable regulations.

EXEMPTIONS PROMULGATED FOR THE SYSTEM:

None.

HISTORY:

Notice of this system of records was last published in full in the Federal Register on March 9, 2021 at 86 FR 13611, as the Department of the Treasury, Departmental Offices .214—DC Pensions Retirement Records.

[FR Doc. 2024-05651 Filed 3-15-24; 8:45 am]

BILLING CODE 4810-AK-P